DEPARTMENT OF HEALTH AND HUMAN SERVICES

Food and Drug Administration

21 CFR Part 165

[Docket No. 03N-0068]

Beverages: Bottled Water; Confirmation of Effective Date

AGENCY: Food and Drug Administration, HHS.

ACTION: Direct final rule; confirmation of effective date.

SUMMARY: The Food and Drug Administration (FDA) is confirming the effective date of December 8, 2003, for the direct final rule that appeared in the Federal Register of March 3, 2003 (68 FR 9873). The direct final rule amends the bottled water quality standards regulations by establishing an allowable level for uranium. This document confirms the effective date of the direct final rule.

DATES: Effective date confirmed: December 8, 2003.

FOR FURTHER INFORMATION CONTACT: Paul South, Center for Food Safety and Applied Nutrition (HFS-306), Food and Drug Administration, 5100 Paint Branch Pkwy., College Park, MD 20740-3835, 301-436-1640.

SUPPLEMENTARY INFORMATION: In the Federal Register of March 3, 2003 (68 FR 9873), FDA published a direct final rule that amends the bottled water quality standards regulations (21 CFR part 165) by establishing an allowable level for uranium. Interested persons were given until May 2, 2003, to comment on the direct final rule. FDA stated that the effective date of the direct final rule would be December 8, 2003, and, if the agency received no significant adverse comments, it would publish a notice of confirmation of the effective date no later than June 11, 2003. FDA received no significant adverse comments within the comment period. Therefore, FDA is confirming that the effective date of the direct final rule is December 8, 2003. As noted in the direct final rule, FDA is publishing this confirmation document 180 days before the effective date to permit affected firms adequate time to take appropriate steps to bring their bottled water products into compliance with the quality standard imposed by the new rule.

Dated: June 2, 2003.
Jeffrey Shuren,
Assistant Commissioner for Policy.

[FR Doc. 03-14477 Filed 6-6-03; 8:45 am]

BILLING CODE 4164-01-S